DEPARTMENT OF JUSTICE

Antitrust Division

Responses to Public Comments on Proposed Amended Final Judgment in United States v. Alcan Inc., et al.

Pursuant to the Antitrust Procedures and Penalties Act, 15 U.S.C. 16(b)-(h), the United States hereby publishes the public comments received on the proposed Amended Final Judgment in United States v. Alcan Inc., Alcan Aluminum Corp., Pechiney, S.A., Pechiney Rolled Products, LLC, No. 1:030 CV 02012-GK filed in the United States District Court for the District of Columbia, together with the government's responses to the comments.

On September 29, 2003, the United States filed a Complaint that alleged that Alcan Inc.'s proposed acquisition of Pechiney, S.A., would violate Section 7 of the Clayton Act, 15 U.S.C. 18, by substantially lessening competition in the sale of brazing sheet in North America. On May 26, 2004, the United States filed a proposed Amended Final Judgment that would require the defendants to divest either Alcan's or Pechiney's brazing sheet business to a purchaser acceptable to the United States.

Public comment was invited within the statutory 60-day comment period. The public comments and the United States's responses thereto are included within the United States's Revised Certificate of Compliance with the Antitrust Procedures and Penalties Act, which appears immediately below. After publication of this Revised Certificate of Compliance in the Federal Register, the United States may file a motion with the Court, urging it to conclude that the proposed Amended Final Judgment is in the public interest and to enter the proposed Amended Final Judgment. Copies of the Complaint, Revised Hold Separate Stipulation and Order, proposed Amended Final Judgment, the Revised Competitive Impact Statement, and the United States's Revised Certificate of Compliance with the Antitrust Procedures and Penalties Act are currently available for inspection in Room 200 of the Antitrust Division, Department of Justice, 325 7th Street, NW., Washington, DC 30530 (telephone: (202) 514-2481) and at the Clerk's Office, United States District Court for the District of Columbia, 333 Constitution Avenue, NW., Washington, DC 20001. Copies of any of these materials may be obtained upon request and payment of a copying fee.

J. Robert Kramer II,
Director of Operations, Antitrust Division.

BILLING CODE 4410-11-M

[FR Doc. 04-21968 Filed 9-29-04; 8:45 am]

BILLING CODE 4410-11-C